DEPARTMENT OF HEALTH AND HUMAN SERVICES

Centers for Disease Control and Prevention

[60 Day-11-0775]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol Walker, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research to Develop the Routine HIV Testing for Emergency Medicine Physicians, Prevention Is Care (PIC), and Partner Services Social Marketing Campaigns—Extension—(0920-0775, exp. 4/30/2011), National Center for HIV/AIDS, Viral Hepatitis, STD, and TB Prevention (NCHHSTP), Centers for Disease Control and Prevention (CDC).

Background and Brief Description

This project involves formative research to inform the development of three CDC-sponsored social marketing campaigns: Social Marketing Campaign to Make HIV Testing a Routine Part of Medical Care for Emergency Medicine Physicians (Routine HIV Testing), Prevention Is Care (PIC), and Partner Services (Partner Services). The goal of the Routine HIV Testing Campaign is to increase HIV testing rates among individuals who receive care through the emergency department and the objective of the campaign is to make HIV testing a routine part of care provided by emergency medicine physicians. PIC entails encouraging primary care physicians (PCP) and Infectious Disease Specialists who deliver care to patients living with HIV to screen their HIV patients for HIV transmission behaviors and deliver brief messages on the importance of protecting themselves and others by reducing their risky behaviors. The long-term objective of the campaign is to establish PIC as the standard of care for persons living with HIV. The goal of the Partner Services component of the PIC social marketing campaign is to make HIV partner services a routine part of medical care. Partner services will greatly enhance the detection and early referral of individuals with HIV infection and will greatly reduce the number of new infections. The study entails conducting interviews to test creative materials with a sample of emergency medicine physicians for Routine HIV Testing and with PCP and Infectious Disease Specialists for PIC and Partner Services. Findings from this study will be used by CDC and its partners to inform current and future program activities.

For Routine HIV Testing, we expect a total of 36 physicians to be screened annually for eligibility. Of the 36 physicians who are screened annually, we expect that 24 will participate in an interview annually.

For PIC, we expect a total of 81 physicians to be screened annually for eligibility. Of the 81 physicians who are screened, we expect that 54 will participate in an interview annually.

For Partner Services, we expect a total of 87 physicians to be screened annually for eligibility. Of the 87 physicians who are screened, we expect that 58 will participate in an interview annually.

There are no costs to the respondents other than their time.

Estimated Annualized Burden Hours
Type of respondent | Form name | Number of respondents | Number of responses per respondent | Average burden response (in hours) | Total burden (in hours)
Emergency Medicine Physicians | Routine HIV Testing Screener | 36 | 1 | 10/60 | 6
Emergency Medicine Physicians | Routine HIV Testing Interview | 24 | 1 | 1 | 24
Emergency Medicine Physicians | Routine HIV Paper & Pencil Survey | 24 | 1 | 10/60 | 4
Prevention Is Care | PIC Screener | 81 | 1 | 10/60 | 14
Prevention Is Care | PIC Interview | 54 | 1 | 1 | 54
Prevention Is Care | PIC Paper & Pencil Survey | 54 | 1 | 10/60 | 9
Partner Services | Screener | 87 | 1 | 10/60 | 15
Partner Services | Interview | 58 | 1 | 1 | 58
Partner Services | Paper & Pencil Survey | 58 | 1 | 10/60 | 10
Total |  |  |  |  | 194

Dated: November 29, 2010.
Carol Walker,
Reports Clearance Officer, Centers for Disease Control and Prevention.

[FR Doc. 2010-30369 Filed 12-2-10; 8:45 am]

BILLING CODE 4163-18-P